DEPARTMENT OF COMMERCE

National Oceanic and Atmospheric Administration

50 CFR Part 679

[Docket No. 010112013-1013-01; I.D. 091701A]

Fisheries of the Exclusive Economic Zone Off Alaska; Reallocation of Pollock

AGENCY: National Marine Fisheries Service (NMFS), National Oceanic and Atmospheric Administration (NOAA), Commerce.

ACTION: Reallocation.

SUMMARY: NMFS is reallocating projected unused amounts of Bering Sea subarea (BS) pollock from the incidental catch account to the directed fisheries. This action is necessary to allow the 2001 total allowable catch (TAC) of pollock to be harvested.

DATES: Effective September 20, 2001 until 2400 hrs, A.l.t., December 31, 2001.

FOR FURTHER INFORMATION CONTACT: Andrew Smoker, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(5)(i)(C)(1) and the American Fisheries Act (AFA) (Public Law 105-277, Division C, Title II), NMFS specified a pollock incidental catch allowance equal to 4 percent of the pollock TAC after subtraction of the 10 percent Community Development Quota reserve in the Final 2001 Harvest Specifications and Associated Management Measures for the Groundfish Fisheries Off Alaska (66 FR 7276, January 22, 2001,and 66 FR 37167, July 17, 2001).

As of August 25, 2001, the Administrator, Alaska Region, NMFS (Regional Administrator), has determined that approximately 24,910 metric tons (mt) of pollock remain in the incidental catch account. Based on projected harvest rates of other groundfish species and the expected bycatch of pollock in those fisheries, the Regional Administrator has determined that 12,000 mt of pollock specified in the incidental catch account will not be necessary as incidental catch. Therefore, NMFS is apportioning the projected unused amount, 12,000 mt, of pollock from the incidental catch account to the directed fishing allowances established at § 679.20(a)(5)(i)(C)(2). This transfer will increase the allocation to catcher vessels harvesting pollock for processing by the inshore component by 6,000 mt, to catcher/processors and catcher vessels harvesting pollock for processing by catcher processors in the offshore component by 4,800 mt and to catcher vessels harvesting pollock for processing by motherships in the offshore component by 1,200 mt. Pursuant to § 679.20(a)(5)(i)(C)(2)(ii), no less than 8.5 percent of the 4,800 mt allocated to catcher processors in the offshore component, 408 mt, will be available for harvest only by eligible catcher vessels delivering to listed catcher processors.

Pursuant to § 679.20(a)(5)(i)(C)(3), Table 1 revises the final 2001 BS subarea allocations to include the seven inshore catcher vessel pollock cooperatives that have been approved and permitted by NMFS for the 2001 fishing year consistent with this reallocation.

TABLE 1. BERING SEA SUBAREA INSHORE COOPERATIVE ALLOCATIONS
Cooperative name and member vessels | Sum of member vessel's official catch histories¹ | Percentage of inshore sector allocation | Annual co-op allocation
Akutan Catcher Vessel Association ALDEBARAN, ARCTURUS, BLUE FOX, CAPE KIWANDA, COLUMBIA, DOMINATOR, DONA MARTITA, EXODUS, GLADIATOR, GOLDEN DAWN, GOLDEN PISCES, HAZEL LORRAINE, INTREPID EXPLORER, LESLIE LEE, LISA MELINDA, MAJESTY, MARCY J, MARGARET LYN, NORDIC EXPLORER, NORTHERN PATRIOT, NORTHWEST EXPLORER, PACIFIC RAM, PACIFIC VIKING, PEGASUS, PEGGIE JO, PERSEVERANCE, PREDATOR, RAVEN, ROYAL AMERICAN, SEEKER, SOVEREIGNTY, TRAVELER, VIKING EXPLORER | 249,800 | 28.682% | 175,187
Arctic Enterprise Association ARCTIC EXPLORER, BRISTOL EXPLORER, OCEAN EXPLORER, PACIFIC EXPLORER | 51,022 | 5.858% | 35,782
Northern Victor Fleet Cooperative ANITA J, NORDIC FURY, PACIFIC FURY, GOLDRUSH, EXCALIBUR II, HALF MOON BAY, SUNSET BAY, COMMODORE, STORM PETREL, POSEIDON, ROYAL ATLANTIC, MISS BERDIE | 72,517 | 8.326% | 50,857
Peter Pan Fleet Cooperative AMBER DAWN, AMERICAN BEAUTY, ELIZABETH F, MORNING STAR, OCEANIC, OCEAN LEADER, TOPAZ, WALTER N, PROVIDIAN | 15,347 | 1.762% | 10,763
Unalaska Cooperative ALASKA ROSE, BERING ROSE, DESTINATION, GREAT PACIFIC, MESSIAH, MORNING STAR, MS AMY, PROGRESS, SEA WOLF, VANGUARD, WESTERN DAWN | 106,737 | 12.255% | 74,856
UniSea Fleet Cooperative ALSEA, AMERICAN EAGLE, ARGOSY, AURIGA, AURORA, DEFENDER, GUN-MAR, NORDIC STAR, PACIFIC MONARCH, SEADAWN, STARFISH, STARLITE, STARWARD | 212,608 | 24.411% | 149,104
Westward Fleet Cooperative A.J., ALASKAN COMMAND, ALYESKA, ARCTIC WIND, CAITLIN ANN, CHELSEA K, HICKORY WIND, FIERCE ALLEGIANCE, OCEAN HOPE 3, PACIFIC CHALLENGER, PACIFIC KNIGHT, PACIFIC PRINCE, VIKING, WESTWARD I | 160,257 | 18.400% | 112,390
Open access AFA vessels | 2,652 | 0.304% | 1,861
Total inshore allocation | 870,941 | 100% | 610,800
¹Under § 679.62(e)(1) the individual catch history for each vessel is equal to the vessel's best 2 of 3 years inshore pollock landings from 1995 through 1997 and includes landings to catcher/processors for vessels that made 500 or more mt of landings to catcher/processors from 1995 through 1997.

Classification

This action responds to the best available information recently obtained from the fishery. The Assistant Administrator for Fisheries, NOAA, finds that the need to immediately implement this action in order to allow full utilization of the pollock TAC constitutes good cause to waive the requirement to provide prior notice opportunity for public comment pursuant to the authority set forth at 5 U.S.C. 553(b)(3)(B) and 50 CFR 679.20(b)(3)(iii)(A), as such procedures would be unnecessary and contrary to the public interest. Similarly, the need to implement these measures in a timely fashion in order to allow full utilization of the pollock TAC constitutes good cause to find that the effective date of this action cannot be delayed for 30 days. Accordingly, under 5 U.S.C. 553(d), a delay in the effective date is hereby waived.

This action is taken under 50 CFR 679.20, and is exempt from review under Executive Order 12866.

Authority: 16 U.S.C. 1801 et seq.

Dated: September 20, 2001.
Bruce C. Morehead,
Acting Director, office of Sustainable Fisheries, Nationa Marine Fisheries Service.

[FR Doc. 01-23996 Filed 9-20-01; 4:48 pm]

BILLING CODE 3510-22-S